NUCLEAR REGULATORY COMMISSION

[Docket No. 04008155]

Finding of No Significant Impact Related to H.C. Starck, Inc.'s Amendment Request To Authorize Decommissioning of Its Coldwater, Michigan Facilities

I. Introduction

The U.S. Nuclear Regulatory Commission (NRC) is issuing a license amendment of Source Material License No. STB-1161 to authorize decommissioning of the H.C. Starck, Inc. facilities in Coldwater, Michigan, and has prepared an Environmental Assessment in support of this action. Based upon the Environmental Assessment, the NRC has concluded that a Finding of No Significant Impact is appropriate, and therefore, an Environmental Statement is unnecessary.

II. EA Summary

The EA was prepared to evaluate the environmental impacts of the proposed amendment to H.C. Starck, Inc. Source Material No. STB-1161, to authorize H.C. Starck to remediate residual thorium contamination resulting from licensed activities at their facilities at 460 Jay Street, Coldwater, Michigan. H.C. Starck, Inc. has been licensed for the possession and use of thorium-232 at their facilities in Coldwater, Michigan, since 1973. The H.C. Starck facilities consist of six primary structures: A main production plant, Jolter Building, Former Polymer Building, a wastewater pretreatment building, and two pole-barn storage buildings. The facility is in a rural area of southern Michigan about two miles southwest of downtown Coldwater. Branch County is largely agricultural with farms occupying 70 percent of the land. Non-residential land use in the vicinity of the Starck site primarily consists of agricultural, industrial, commercial, and retail facilities. The nearest residence is within 1,000 feet of the H.C. Starck facility. Soil sampling conducted by H.C. Starck indicates that no radiological contamination has migrated outside the buildings. In addition, there is no evidence that any onsite burial of radiological material ever occurred. Because no remediation is required outside of the buildings, decontamination activities are not expected to have any impact on the environment. Furthermore, no long-term environmental monitoring is expected to be necessary as a result of licensed activities. Because H.C. Starck will continue to operate the facility at the same staffing levels following termination of licensed operations, no socioeconomic impact is anticipated on the employees or within the community. It is anticipated that the total amount of dry solid low level radioactive waste (LLRW) generated from decommissioning activities will be less than 1,000 cubic feet. Waste may be stored onsite in the radioactive waste storage vault or other appropriate secure location while it is being consolidated for shipment to Envirocare of Utah. Any liquid waste generated during decommissioning will be sampled, and the results will be compared to current discharge limits prior to disposal directly into the facility effluent stream or to the facility treatment plant. No radiological dose is expected to a member of the public as a result of the decommissioning activities. For occupational dose estimates, H.C. Starck will employ properly trained and experienced personnel who will apply industry accepted ALARA (as-low-as-reasonably-achievable) principals to minimize exposures during decontamination activities. Decontamination workers are not expected to receive a dose greater than 10 millirem during the expected 6 to 8 weeks of decommissioning activities. Dose assessments were performed to estimate the potential dose to a future site occupant working at the H.C. Starck facility. This average member of the critically exposed group would be exposed to post-decontamination levels of natural thorium contamination. The modeling results determined that a maximum dose rate to a future occupant is 23 millirem/year. This dose rate decreases to about 2 millirem/year after 2.8 years based on the source lifetime for the residual removable contamination on the walls, floor and ceiling. Accordingly, it has been determined that a Finding of No Significant Impact is appropriate.

H.C. Starck's request for the proposed action was previously noticed in the Federal Register on October 11, 2002 (67 FR 63457), along with a notice of an opportunity to request a hearing and an opportunity to provide public comment on the action and its environmental impacts.

III. Finding of No Significant Impact

Based on this EA, as summarized above, the NRC has concluded that this licensing action would not have any significant effect on the quality of the human environment, and therefore, an environmental impact statement is unnecessary.

IV. Further Information

Any questions with respect to this action should be referred to Mr. William Snell, Division of Nuclear Materials Safety, U.S. Nuclear Regulatory Commission, Region III, 801 Warrenville Road, Lisle, Illinois 60532-4351; telephone (630) 829-9871 or by email at wgs@nrc.gov.

H.C. Starck's request for the proposed action (ADAMS Accession No. ML022550372) and the NRC's complete Environmental Assessment (ADAMS Accession No. ML030660370) are available for inspection and copying for a fee in the U.S. Nuclear Regulatory Commission, Region III, 801 Warrenville Rd., Lisle, Illinois. The documents, along with most others referenced in the EA, are available for public review through ADAMS at NRC's Public Electronic Reading Room at http://www.nrc.gov/reading-rm/adams.html.

Dated in Lisle, Illinois, this 12th day of March, 2003.
Christopher G. Miller,
Chief, Decommissioning Branch, Division of Nuclear Material Safety, RIII.

[FR Doc. 03-6950 Filed 3-21-03; 8:45 am]

BILLING CODE 7590-01-P